DEPARTMENT OF THE INTERIOR

Bureau of Land Management

[NM-110-1610-DS]

Notice of Availability (NOA) of the Draft Environmental Impact Statement (DEIS) for the Kasha-Katuwe Tent Rocks National Monument Resource Management Plan (RMP)

AGENCY: Bureau of Land Management (BLM), Interior.

ACTION: NOA of a Draft Resource Management Plan/Environmental Impact Statement (DRMP/EIS) for the Kasha-Katuwe Tent Rocks National Monument, New Mexico.

SUMMARY: In accordance with Section 202 of the National Environmental Policy Act of 1969 (NEPA), the BLM announces the availability of the DEIS for the Kasha-Katuwe Tent Rocks National Monument RMP. The DEIS documents the direct, indirect, and cumulative environmental impacts of three alternative management plans for BLM-administered public lands within the Kasha-Katuwe Tent Rocks National Monument. When completed, the RMP will fulfill the obligations set forth by NEPA, the Federal Land Policy and Management Act, and associated Federal regulations.

DATES: The Kasha-Katuwe Tent Rocks National Monument DRMP/EIS will be available for review for 90 calendar days from the date the Environmental Protection Agency (EPA) publishes its NOA in the Federal Register. In order to assure your comments and resource information submissions are fully considered they must be received within the 90-day review period identified above.

Open House meetings will be scheduled to provide the public additional opportunities to submit written comments on the Kasha-Katuwe Tent Rocks National Monument DRMP/EIS. All meetings and any other public involvement activities will be announced at least 15 days in advance through public notices, media news releases, New Mexico BLM Web site announcements, or mailings.

ADDRESSES: A copy of the DRMP/EIS has been sent to affected Federal, State, and local government agencies and to interested parties. The document may be available electronically on the following web site: http://www.blm.gov/nhp/spotlight/state_info/planning.htm. Copies of the DRMP/EIS will be available for public inspection at the following locations: BLM New Mexico State Office, 1474 Rodeo Road, Santa Fe, NM 87505; BLM Rio Puerco Field Office, 435 Montaño Road NE, Albuquerque, NM 87107. The current RMPs, EISs, and all other documents relevant to this planning process, are available for public review at the Rio Puerco Field Office at the above address.

Written comments may be mailed directly, or delivered to the BLM at: Kasha-Katuwe Tent Rocks National Monument, DRMP/EIS, BLM Rio Puerco Field Office, 435 Montaño Road NE., Albuquerque, NM 87107. Comments may be electronically mailed to: NM_Comments@nm.blm.gov.

Comments may be faxed to the BLM at: (505) 761-8911. Comments that are e-mailed or faxed must include “Comments on Kasha-Katuwe Tent Rocks National Monument DRMP/EIS” in the subject line. Interested parties may also provide written comments during the public open house meetings. In order to assure that your comments are fully considered they must be submitted in one of the four ways described above. To be given consideration by the BLM all DRMP/EIS comment submittals must include the commentor's name and street address.

Our practice is to make comments, including the name and street address of each respondent, available for public review at the BLM office listed above during business hours (7:45 a.m. to 4:30 p.m., Monday through Friday, except for Federal holidays). Your comments may be published as part of the EIS process. Individual respondents may request confidentiality. If you wish to withhold your name or street address, or both, from public review or from disclosure under the Freedom of Information Act, you must state this prominently at the beginning of your written comments. Such requests will be honored to the extent allowed by law. We will not consider anonymous comments. All submissions from organizations and businesses will be made available for public inspection in their entirety.

FOR FURTHER INFORMATION CONTACT: Contact Mr. John Bristol, RMP Team Leader, at the BLM Rio Puerco Field Office (see address above), telephone (505) 761-8755. Requests for information may be sent electronically to: NM_Comments@nm.blm.gov with “Attention: KKTR NM DRMP/EIS Information Request” in the subject line.

SUPPLEMENTARY INFORMATION: In 2001, Kasha-Katuwe Tent Rocks National Monument, was designated a National Monument by Presidential Proclamation 7394. The proclamation directed management of the monument by the Secretary of the Interior through the Bureau of Land Management. It required the development of a Management Plan in close cooperation with the Pueblo de Cochiti and the promulgation of regulations for its management as the Secretary of the Interior deems appropriate. The monument is located in Sandoval County, New Mexico. Within the monument boundaries are 4,124 acres federally owned land, 521 acres of State owned land and 757 acres land in private ownership, for a total of 5,402 acres.

The DRMP/EIS describes the physical, biological, cultural, historic, and socioeconomic resources in the “Decision Area” (5,402 acres) and the “Planning Area” (15,635 acres—includes edge-holdings). The focus for impact analysis was based on resource issues and concerns identified during scoping and public involvement activities and opportunities. Issues of concern regarding possible management direction and planning decisions (not in priority order) are: land tenure adjustments, access and transportation, recreation (use and development), ecosystem restoration, and American Indian uses and traditional cultural practices.

Three alternatives were analyzed in detail: Alternative A is the No Action Alternative representing the continuation of existing management plans, policies, and decisions established in the 1986 Rio Puerco RMP, as amended, and as implemented through the Tent Rocks ACEC Protection Plan, with minimal compliance with proclamation requirements. Alternative B represents the agency proposed resource use and conservation alternative. Alternative C emphasizes an adaptive management approach (particularly for recreation management) with the inclusion of additional monitoring. The monitoring results would trigger management changes to maximize recreational use and facility development while minimizing natural resource degradation and depletion. The BLM's preferred alternative is Alternative B.

Since the publication of the Notice of Intent (NOI) to prepare an RMP/EIS in the Federal Register on January 22, 2004, open house meetings, scoping meetings, and mailings have been conducted to solicit public comments and input. The Rio Puerco Field Office has been providing updates on the development of this DRMP/EIS to the Sandoval County Manager, Pueblo de Cochiti and the New Mexico Resource Advisory Council. Other tribal governments with interests in the monument area were also consulted. From the publication date of the NOI in the Federal Register, through June 30, 2005, the BLM solicited and received approximately 30 submissions from interested parties. In addition, three public meetings were held to provide the public with an opportunity to acquire information about the RMP/EIS process and its status, and to submit comments. These public meetings were held in Pena Blanca, New Mexico, on February 24, 2004, Rio Rancho, New Mexico, February 25, 2004 and in Santa Fe, New Mexico, February 26, 2004. All comments received throughout the process have been considered. Background information and maps used in developing the DRMP/EIS are available for public viewing at the Rio Puerco Field Office at the above address.

Dated: September 6, 2005.
Jesse J. Juen,
Associate State Director.

[FR Doc. 05-22037 Filed 11-3-05; 8:45 am]

BILLING CODE 4310-AG-P